DEPARTMENT OF THE INTERIOR

National Park Service

Notice of Scoping for Preparing an Environmental Impact Analysis of a Proposed Pilot Project at Everglades National Park

AGENCY: National Park Service, Department of the Interior.

ACTION: Notice of Scoping for preparing an environmental impact analysis of a proposed pilot project at Everglades National Park.

SUMMARY: Notice is hereby given, in accordance with the provisions of the National Environmental Policy Act (NEPA) (42 U.S.C. 4321 et seq.), that public scoping is being initiated for an environmental impact analysis process to evaluate the use of swales placed downstream of existing culverts for improving water flows under Tamiami Trail (U.S. 41) into Northeast Shark Slough, Everglades National Park (Park). The purpose of this scoping effort is to identify environmental issues and potential alternatives to be addressed in the environmental impact analysis. The NEPA analysis will begin with the preparation of the Environmental Assessment (EA). As the project moves forward and if the National Park Service (NPS) determines that this project is likely to result in significant impacts to the human environment, the EA will be converted to an Environmental Impact Statement.

SUPPLEMENTARY INFORMATION: The Everglades National Park Protection and Expansion Act of 1989, 16 U.S.C. 410r-5 et seq., (Expansion Act) expanded the boundaries of the Park to include approximately 109,000 acres (Expansion Area) south of the Tamiami Trail in Miami-Dade County, Florida. The Expansion Act directs the NPS to preserve the Park's outstanding natural features, and enhance and restore its ecological values and natural hydrologic conditions. The Expansion Act also authorized the Modified Water Deliveries (MWD) Project, whose purpose is to improve water deliveries within the Park and restore the natural hydrologic conditions to the extent practicable.

One of the objectives of the MWD Project is to improve the conveyance of water to the Expansion Area, which will require modifications to Tamiami Trail and associated culverts under the roadway. In this regard, the U.S. Army Corps of Engineers (USACOE) is preparing the 2008 Limited Reevaluation Report to assess potential roadway modifications, including alternatives such as constructing bridges, adding culverts, and installing swales downstream of existing culverts.

Recent modeling done by the USACOE suggests that constructing bridges and adding culverts may improve water flow to the Expansion Area. However, the efficacy of placing swales downstream of existing culverts as a measure to improve hydrologic conveyance remains questionable. In addition, the potential environmental impacts caused by swale construction must be addressed. Therefore, the Park believes it is appropriate to assess the potential effects of swale construction in a comprehensive manner by means of a pilot project.

The purpose of the pilot project is to test whether constructing spreader swales downstream of two existing culverts will improve water flow into the Northeast Shark Slough. Test results should enable a realistic assessment of the degree of improved hydrologic conveyance provided by the swales when compared to the conveyance capacity of the existing culverts. In addition, test results are expected to assist in determining the relative ecological benefits of swales and the environmental impacts associated with their construction and use.

DATES: Written comments regarding the proposed project must be postmarked no later than 30 days from the publication of this notice. As part of this scoping effort, a public workshop will be held in Miami-Dade County to solicit public input about the proposed project. Notification of the workshop will be announced in the newspaper Miami Herald and through the NPS Planning Environment and Public Comment (PEPC) Web site: http://parkplanning.nps.gov.

ADDRESSES: Written comments should be addressed to National Park Service, Attention Pat Kenney, Denver Service Center, Planning Division, P.O. Box 25287, Denver, Colorado 80225-0287. Comments may also be submitted via the PEPC Web site using the links provided below. General information about the proposed project is available at the office of the Superintendent, Everglades National Park, 40001 State Road 9336, Homestead, Florida 33034. Additionally, interested persons may view the PEPC Web site: http://parkplanning.nps.gov, then select “Everglades NP” from the drop down box, then “Proposed Spreader Swales Pilot Test,” and “Open for Public Comment.”

Before including your address, phone number, e-mail address, or other personal identifying information in your comment, you should be aware that your entire comment—including your personal identifying information—may be made publicly available at any time. While you can ask us in your comment to withhold your personal identifying information from public review, we cannot guarantee that we will be able to do so.

FOR FURTHER INFORMATION CONTACT: Superintendent's Office, at 305-242-7707, or EVER_superintendent@nps.gov.

Authority: The authority for publishing this notice is contained in 40 CFR 1506.6.

The responsible official for this notice is the Acting Regional Director, Southeast Region, National Park Service, 100 Alabama Street, SW., 1924 Building, Atlanta, Georgia 30303.

Dated: May 8, 2008.
Art Frederick,
Acting Regional Director, Southeast Region.

[FR Doc. E8-11111 Filed 5-16-08; 8:45 am]

BILLING CODE 4310-XH-P